NUCLEAR REGULATORY COMMISSION

[Docket No. 50-285]

Omaha Public Power District Notice of Withdrawal of Application for Amendment to Facility Operating License

The U.S. Nuclear Regulatory Commission (the Commission) has granted the request of Omaha Public Power District (the licensee) to withdraw its May 14, 2004, application for proposed amendment to Facility Operating License No. DPR-40 for the Fort Calhoun Station, Unit No. 1 (FCS), located in Washington County, Nebraska.

The proposed amendment would have revised the Technical Specifications Section 2.3(2)b, “Modification of Minimum Requirements.” Specifically, the proposed change would have provided a risk-informed alternative to the existing restoration period for the High-Pressure Safety Injection System.

The Commission had previously issued a Notice of Consideration of Issuance of Amendment published in the Federal Register on July 6, 2004 (69 FR 40677). However, by letter dated August 25, 2006, the licensee withdrew the proposed change.

For further details with respect to this action, see the application for amendment dated May 14, 2004, and the licensee's letter dated August 25, 2006, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 8th day of September 2006.
For the Nuclear Regulatory Commission.
Alan B. Wang,
Project Manager, Plant Licensing Branch IV, Division of Operating Reactor Licensing, Office of Nuclear Reactor Regulation.

[FR Doc. 06-8153 Filed 9-22-06; 8:45 am]

BILLING CODE 7590-01-P